DEPARTMENT OF DEFENSE

Office of the Secretary

[Docket ID: DoD-2022-OS-0039]

Submission for OMB Review; Comment Request

AGENCY: Office of the Under Secretary of Defense for Personnel and Readiness (USD(P&R)), Department of Defense (DoD).

ACTION: 30-Day information collection notice.

SUMMARY: The Department of Defense has submitted to OMB for clearance the following proposal for collection of information under the provisions of the Paperwork Reduction Act.

DATES: Consideration will be given to all comments received by September 1, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Wingman Intervention Training Program Evaluation; OMB Control Number 0704-0627.

Type of Request: Revision.

Number of Respondents: 8,540.

Responses per Respondent: 1.

Annual Responses: 1.

Average Burden per Response: 16.71 minutes.

Annual Burden Hours: 2,379 hours.

Needs and Uses: The purpose of the evaluation is to determine the effectiveness of the Wingman Intervention Training (WIT) program in preventing sexual harassment (SH) and sexual assault (SA). Respondents are Airmen/Guardians. Respondents will be recruited as First Term Airmen/Guardians to target the population most vulnerable to SH and SA. Respondents will start the web-based baseline January 2022 with a six-month intake period until June 2022, and a 6-month follow-up survey (July-December 2022) on SH and SA so that the Department of the Air Force (DAF) can learn whether the WIT programming is effective at preventing SH and SA events and promoting active bystander behaviors. DAF Resilience Office staff can use the results to improve their prevention programming, thus supporting safer, more inclusive settings. Further, Airmen/Guardians may benefit through the improvement of the WIT program to prevent SH and SA within the Air Force. The military and society at large will also benefit because military officers will be more knowledgeable about SH and SA and will be better able to intervene to prevent SH and SA.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: July 28, 2022.
Kayyonne T. Marston,
Alternate OSD Federal Register Liaison Officer, Department of Defense.

[FR Doc. 2022-16522 Filed 8-1-22; 8:45 am]

BILLING CODE 5001-06-P